DEPARTMENT OF TRANSPORTATION

Federal Aviation Administration

14 CFR Part 39

[Docket No. 2003-NM-52-AD; Amendment 39-13696; AD 2004-13-14]

RIN 2120-AA64

Airworthiness Directives; Airbus Model A300 B2 Series Airplanes; Model A300 B4 Series Airplanes; and Model A300 B4-600, B4-600R, C4 605R Variant F, and F4-600R (Collectively Called A300-600) Series Airplanes

AGENCY: Federal Aviation Administration, DOT.

ACTION: Final rule.

SUMMARY: This amendment adopts a new airworthiness directive (AD), applicable to all Airbus Model A300 B2 series airplanes; Model A300 B4 series airplanes; and Model A300 B4-600, B4-600R, C4 605R Variant F, and F4-600R (collectively called A300-600) series airplanes; that requires inspection of the label of certain slat friction brakes for correct label wording, and corrective actions if necessary. This AD also provides for optional terminating actions for certain repetitive corrective actions. These actions are necessary to find and fix incorrect labels on the housings of the slat friction brakes, which may lead to the use of unapproved oil in the brakes. Use of unapproved oil could affect the efficiency of the brakes and lead to failure of the brakes to maintain proper slat orientation in the event of a rupture of the slat drive shaft, consequent uncommanded retraction of the slat, and reduced controllability of the airplane. This action is intended to address the identified unsafe condition.

DATES: Effective August 3, 2004.

The incorporation by reference of certain publications listed in the regulations is approved by the Director of the Federal Register as of August 3, 2004.

ADDRESSES: The service information referenced in the proposed rule may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Airbus Model A300 B2 series airplanes; Model A300 B4 series airplanes; and Model A300 B4-600, B4-600R, C4 605R Variant F, and F4-600R (collectively called A300-600) series airplanes; was published in the Federal Register on March 24, 2004 (69 FR 13763). That action proposed to require inspection of the label of certain slat friction brakes for correct label wording, and corrective actions if necessary. That action also provided for optional terminating actions for certain repetitive corrective actions.

Comments

Interested persons have been afforded an opportunity to participate in the making of this amendment. Due consideration has been given to the single comment received.

Request To Add Preemptive Brake Replacement Option

One commenter, an operator, requests an option be added to allow removal and replacement of friction brakes prior to further flight without performing the oil replacement/sampling requirements. The commenter states that it has already accomplished the specified inspections and replaced any suspect brakes on all its airplanes.

The FAA agrees with the commenter. Paragraph (d)(2) of this AD already provides the option to terminate the repeat torque verification by replacing the brake. We recognize that if the replacement specified in paragraph (d)(2) is performed prior to further flight after the inspection required by paragraph (b) of this AD, it is not necessary to perform the requirements of paragraph (c) of this AD. Therefore, paragraphs (b), (c) and (d) have been rewritten to address this concern.

Conclusion

After careful review of the available data, including the comment noted above, the FAA has determined that air safety and the public interest require the adoption of the rule with the changes described previously. The FAA has determined that these changes will neither increase the economic burden on any operator nor increase the scope of the AD.

Cost Impact

The FAA estimates that 120 airplanes of U.S. registry will be affected by this AD, that it will take approximately 1 work hour per airplane to accomplish the required actions, and that the average labor rate is $65 per work hour. Based on these figures, the cost impact of the AD on U.S. operators is estimated to be $7,800, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-13-14 Airbus: Amendment 39-13696. Docket 2003-NM-52-AD.

Applicability: All Model A300 B2 series airplanes; Model A300 B4 series airplanes; and Model A300 B4-600, B4-600R, C4 605R Variant F, and F4-600R (collectively called A300-600) series airplanes; certificated in any category.

Compliance: Required as indicated, unless accomplished previously.

To prevent the possible use of unqualified oil in the slat friction brakes, which could cause failure of the brakes to maintain proper slat orientation in the event of a rupture of the slat drive shaft, consequent uncommanded retraction of the slats, and reduced controllability of the airplane, accomplish the following:

All Operators Telex (AOT) Reference

(a) The term AOT as used in this AD means paragraph 4.3, “Description,” of the following, as applicable:

(1) For Model A300 B2 and A300 B4 series airplanes: Airbus AOT 27A0199, Revision 01, dated February 5, 2003.

(2) For Model A300 B4-600, B4-600R, C4-605R Variant F, and F4-600R (collectively called A300-600) series airplanes: Airbus AOT 27A6055, Revision 01, dated February 5, 2003.

Inspection

(b) Within 3 weeks from the effective date of this AD, perform a general visual inspection of the label on the housings of the slat friction brakes for correct wording, in accordance with the applicable AOT. Accomplishment of the requirements of paragraph (d)(2) of this AD prior to further flight after accomplishing paragraph (b) eliminates the requirement for paragraph (c) of this AD.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Actions

(c) If the wording of the label is found to be incorrect during the inspection required by paragraph (b) of this AD, prior to further flight, remove the label, then perform the actions specified in paragraphs (c)(1), (c)(2), and (c)(3) of this AD in accordance with the applicable AOT, or perform the actions specified in paragraph (d)(2) of this AD.

(1) Within 500 flight hours after removing the incorrect label, apply a correctly worded label to the housing.

(2) Prior to further flight after removing the label, drain the friction brake and refill with Exxon 2120 oil.

(3) Prior to further flight after removing the label, verify the torque of the friction brake.

(i) If the torque is within the limits specified in the applicable AOT, repeat the torque verification thereafter at intervals not to exceed 500 flight hours, until the optional terminating actions specified in paragraph (d) of this AD have been accomplished.

(ii) If the torque is not within the limits specified in the applicable AOT, prior to further flight, replace the friction brake with a new brake in accordance with the applicable AOT. Accomplishment of this replacement terminates the requirement for the repetitive torque verification for that brake.

Optional Terminating Actions

(d) Accomplishment of either paragraph (d)(1) or (d)(2) of this AD terminates the repetitive torque verification required by paragraph (c)(3)(i) of this AD.

(1) Analyze the oil drained from the friction brake.

(i) If the oil is Exxon 2120, no further action is required by this AD.

(ii) If the oil is not Exxon 2120, prior to further flight, replace the friction brake as specified in paragraph (d)(2) of this AD.

(2) Replace the friction brake with a new brake in accordance with the applicable AOT.

Analysis of Brake Oil

(e) Although the referenced AOTs describes procedures for submitting oil drained from the friction brakes to the brake manufacturer for analysis, this AD does not require that the manufacturer be the sole source of such analysis.

Alternative Methods of Compliance

(f) In accordance with 14 CFR 39.19, the Manager, International Branch, ANM-116, FAA, Transport Airplane Directorate, is authorized to approve alternative methods of compliance for this AD.

Incorporation by Reference

(g) The actions shall be done in accordance with Airbus All Operators Telex 27A0199, Revision 01, dated February 5, 2003; or Airbus All Operators Telex 27A6055, Revision 01, dated February 5, 2003; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 2: The subject of this AD is addressed in French airworthiness directive 2003-048(B), dated February 5, 2003.

Effective Date

(h) This amendment becomes effective on August 3, 2004.

Issued in Renton, Washington, on June 16, 2004.
Ali Bahrami,
Acting Manager, Transport Airplane Directorate, Aircraft Certification Service.

[FR Doc. 04-14567 Filed 6-28-04; 8:45 am]

BILLING CODE 4910-13-P